DEPARTMENT OF ENERGY

Federal Energy Regulatory Commission

[Docket No. RP04-387-000]

Northwest Pipeline Corporation; Notice of Proposed Changes in FERC Gas Tariff

July 9, 2004.

Take notice that on July 1, 2004, Northwest Pipeline Corporation (Northwest) tendered for filing as part of its FERC Gas Tariff, the following tariff sheets, to be effective August 1, 2004.

Third Revised Volume No. 1

Twenty-Seventh Revised Sheet No. 5

Seventeenth Revised Sheet No. 5-A

Eleventh Revised Sheet No. 6

Ninth Revised Sheet No. 18

Fifth Revised Sheet No. 18-A

First Revised Sheet No. 21-A

Sixth Revised Sheet No. 31

Second Revised Sheet No. 127

Twelfth Revised Sheet No. 200

Fifth Revised Sheet No. 212

Third Revised Sheet No. 224

Eighth Revised Sheet No. 225

Fourth Revised Sheet No. 360

Original Volume No. 2; and

Thirtieth Revised Sheet No. 2.2

Northwest states that the purpose of this filing is to remove the GRI Adjustment surcharges from its tariff in accordance with the terms and conditions of the March 10, 1998 Settlement Agreement.

Northwest states that a copy of this filing has been served upon Northwest's customers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1578 Filed 7-14-04; 8:45 am]

BILLING CODE 6717-01-P